FEDERAL COMMUNICATIONS COMMISSION

[CC Docket No. 92-237; DA 14-325]

Closed Meeting of the North American Numbering Council

AGENCY: Federal Communications Commission.

ACTION: Notice.

SUMMARY: In this document, the Commission released a public notice announcing the closed meeting and agenda of the North American Numbering Council (NANC). The intended effect of this action is to make the public aware of the NANC's closed meeting and agenda.

DATES: Wednesday, March 26, 2014, 1:30 p.m.

FOR FURTHER INFORMATION CONTACT: Carmell Weathers, Special Assistant to the Designated Federal Officer (DFO) at (202) 418-2325 or Carmell.Weathers@ fcc.gov. The fax number is: (202) 418-1413. The TTY number is: (202) 418-0484.

SUPPLEMENTARY INFORMATION: This is a summary of the Commission's document in CC Docket No. 92-237, DA 14-325 released March 10, 2014. The complete text in this document is available for public inspection and copying during normal business hours in the FCC Reference Information Center, Portals II, 445 12th Street SW., Room CY-A257, Washington, DC 20554. The document may also be purchased from the Commission's duplicating contractor, Best Copy and Printing, Inc., 445 12th Street SW., Room CY-B402, Washington, DC 20554, telephone (800) 378-3160 or (202) 863-2893, facsimile (202) 863-2898, or via the Internet at http://www.bcpiweb.com. It is also available on the Commission's Web site at http://www.fcc.gov.

The North American Numbering Council (NANC) has scheduled a closed meeting to be held Wednesday, March 26, 2014 at 1:30 p.m. The meeting will be held at the Federal Communications Commission, Portals II, 445 12th Street SW., Washington, DC.

The notice of this meeting was first published in the Federal Register on March 13, 2014, 13 days in advance of the meeting on March 26, 2014. While the publication did not meet the 15-day requirement for advance publication, exceptional circumstances warrant proceeding with the March 26, 2014 NANC meeting. The NANC Chair, Vice Chair, and most NANC members were informed of the potential March 26 meeting via emails in January. The rest of the NANC members were notified informally of the proposed March 26 meeting in January or February, and on more than one occasion. A significant number of Council members have made business and travel plans in accordance with this schedule, and there is no date within one month of the planned date that will accommodate Council members' schedules. Delaying the meeting will also cause undue financial burdens on many of the members who have made travel arrangements. Further, recognizing the delay in Federal Register publication, the agency issued a Public Notice of this meeting on March 10, 2014, to mitigate the late Federal Register publication delay and as an additional way of advising the public of this meeting. The agency has also posted all NANC meeting dates on the FCC NANC Web site to further inform the public. As the March meeting date has been disseminated to all NANC members and the public, the March 26, 2014 meeting has now been broadly announced.

People with Disabilities: To request materials in accessible formats for people with disabilities (braille, large print, electronic files, audio format), send an email to fcc504@fcc.gov or call the Consumer and Governmental Affairs Bureau at 202-418-0530 (voice), 202-418-0432 (tty). Reasonable accommodations for people with disabilities are available upon request. Include a description of the accommodation you will need, including as much detail as you can. Also include a way we can contact you if we need more information. Please allow at least five days advance notice; last minute requests will be accepted, but may be impossible to fill.

Proposed Agenda: Wednesday, March 26, 2014, 1:30 p.m.

1. Discussion of the Local Number Portability Administrator selection process and bids submitted by vendor(s) that want to become the LNPA, followed by a vote of the NANC members on submitting a recommendation to the FCC for vendor(s) selection and regarding the LNPA selection process.

Federal Communications Commission.
Ann Stevens,
Deputy Division Chief, Wireline Competition Bureau.

[FR Doc. 2014-05707 Filed 3-11-14; 4:15 pm]

BILLING CODE 6712-01-P